DEPARTMENT OF INTERIOR

National Park Service

Legislative Environmental Impact Statement on Gull Egg Harvest by the Huna Tlingit in Glacier Bay National Park

AGENCY: National Park Service, Interior.

ACTION: Notice of intent to prepare a Legislative Environmental Impact Statement.

SUMMARY: The National Park Service (NPS) is preparing a Legislative Environmental Impact Statement (LEIS) on the potential harvest of gull eggs by the Huna Tlingit in Glacier Bay National Park. The purpose of the LEIS is to respond to Section 4 of the Glacier Bay National Park Resource Management Act of 1999 (Pub. L. 106-455) which requires the Secretary of Interior, in consultation with local residents, to assess whether sea gull eggs can be collected in the park on a limited basis without impairing the biological sustainability of the gull population in the park. The Act further requires that if the study determines that the limited collection of sea gull eggs can occur without impairing the biological sustainability of the gull population in the park, the Secretary shall submit recommendations for legislation to Congress.

The proposed action alternative will include harvesting glaucous-winged gull (Larus glaucescens) eggs by tribal members of the Hoonah Indian Association (HIA) under a traditional harvest strategy cooperatively produced by NPS and HIA The traditional harvest strategy would outline the methods by which eggs could be harvested, harvest limits, and monitoring actions that would be implemented to ensure that park purposes and values would remain unimpaired. A second alternative will consider more limited egg harvest opportunities. A no action alternative, which would continue to preclude egg harvest throughout the park will also be included in the LEIS.

Scoping: The National Park Service seeks input from interested groups, organizations, individuals and government agencies. Written and verbal scoping comments are being solicited. Further information on this LEIS process is available by contacting the National Park Service at Glacier Bay National Park and Preserve.

Our practice is to make comments, including names, home addresses, home phone numbers, and email addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives or officials of organizations or businesses, available for public inspection in their entirety.

The LEIS is being prepared in accordance with the requirements of the National Environmental Policy Act of 1969, as amended (42 U.S.C. 4331 et seq.) and its implementing regulations at 40 CFR part 1500 and the process for proposals for legislation (40 CFR 1506.8).

DATES: Comments concerning the scope of this project should be received on or before November 17, 2006. The draft LEIS is projected to be available in early 2007. Submit electronic comments to http://parkplanning.nps.gov. Written comments may be mailed to the address provided below.

FOR FURTHER INFORMATION CONTACT: Mary Beth Moss, Project Manager, Glacier Bay National Park and Preserve, P.O. Box 140, Gustavus, AK 99826. Telephone (907) 945-3545 x31, Fax (907) 945-3703.

SUPPLEMENTARY INFORMATION: Glacier Bay National Park is the traditional homeland of the Huna Tlingit people. The Huna Tlingit harvested eggs at gull rookeries in Glacier Bay, including the large nesting site on South Marble Island, prior to the park being established in 1925. Until recently, the Migratory Bird Treaty Act prohibited the harvest of gull eggs, and by statute and NPS regulations, harvest is still precluded within park boundaries. Legislation is necessary to authorize the collection of sea gull eggs in the park, and regulations would need to be promulgated to implement the gull egg collection program in accordance with the provisions of Section 4 of Pub. L. 106-455.

Dated: August 9, 2006.
Victor Knox,
Acting Regional Director, Alaska.

[FR Doc. 06-7716 Filed 9-15-06; 8:45 am]

BILLING CODE 4312-HX-M